DEPARTMENT OF COMMERCE

National Oceanic and Atmospheric Administration

[RTID 0648-XE070]

New England Fishery Management Council; Public Meeting

AGENCY: National Marine Fisheries Service (NMFS), National Oceanic and Atmospheric Administration (NOAA), Commerce.

ACTION: Notice of public meeting.

SUMMARY: The New England Fishery Management Council (Council) is scheduling a public hybrid meeting of its On-Demand Gear Conflict Working Group to consider actions affecting New England fisheries in the exclusive economic zone (EEZ). Recommendations from this group will be brought to the full Council for formal consideration and action, if appropriate.

DATES: This hybrid meeting will be held on Wednesday, July 17, 2024, at 9:30 a.m.

ADDRESSES: This meeting will be held at the Hilton Garden Inn, 100 Boardman Street, Boston, MA 02128; telephone: (617) 567-6789.

Webinar registration URL information: https://nefmc.org.zoom.us/meeting/register/tJwsdeusqTovE9DdRPznC8qUKtH3UJlGcGyq.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The On-Demand Fishing Gear Conflict Working Group (ODWG) will meet to receive an update from the Greater Atlantic Regional Fisheries Office (GARFO) on the status of Atlantic Large Whale Take Reduction Plan (ALWTRP) gillnet/other trap/pot (OTP) proposed rule as well as an update on on-demand gear activities funded by the Inflation Reduction Act. They will review and have a discussion of gear marking/gear interaction draft white paper. The group will review and have a discussion of Federal and state-by-state regulatory/legislative processes for adopting ropeless gear marking. They will receive a briefing from the Northeast Fisheries Science Center (NEFSC) gear team on on-demand experimental fishing projects as well as a briefing from the Maine Department of Marine Resources (MEDMR) gear team on-demand experimental fishing projects. They will also receive a briefing from NOAA Office of Law Enforcement on on-demand gear training workshops. Updates on other on-demand gear related activity will be discussed. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: June 25, 2024.
Rey Israel Marquez,
Acting Deputy Director, Office of Sustainable Fisheries, National Marine Fisheries Service.

[FR Doc. 2024-14343 Filed 6-27-24; 8:45 am]

BILLING CODE 3510-22-P